DEPARTMENT OF COMMERCE

National Oceanic and Atmospheric Administration

Proposed Information Collection; Comment Request; Limits of Acceptable Change Study: Surveys in the Northeast Reserves and Culebra Island, Puerto Rico

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 15, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Chris Jeffrey, National Centers for Coastal Ocean Science, 1305 East-West Hwy, Silver Spring, MD 20910-3281, Telephone number (240) 533-0354, email: chris.jeffrey@noaa.gov.

SUPPLEMENTARY INFORMATION:

I. Abstract

This request is for a new information collection.

The Coral Reef Conservation Program (CRCP), developed under the authority of the Coral Reef Conservation Act of 2000, is responsible for programs intended to enhance the conservation of coral reefs. We intend to use the information collected through this instrument for conducting a characterization project utilizing a limits of acceptable change (LAC) framework that encompasses the Puerto Rico Northeast Marine Corridor (NMC) as a continuous management area, addressing the following subjects across the area and within individual natural reserves to create the information base required to promote effective management: Biophysical conditions, social conditions, stakeholder identification, stakeholder uses and use patterns, stakeholder knowledge, attitudes, and beliefs, and stakeholder and resource use conflicts. The study will build on past work conducted with stakeholders on natural resources and social indicators in the region, developing a social conditions baseline. Social conditions will be characterized via a series of stakeholder participation protocols, which will result in stakeholder identification, use and use patterns, knowledge, attitudes, and belief, and use conflicts. It will engage the four, main NMC stakeholders: Commercial fishers; commercial water operators; recreational boaters, and visitors. All commercial fishers and commercial water operators in the region will be surveyed with an in-person questionnaire. Recreational boaters will be reached by sending out an internet/email survey questionnaire sent to all vessel registrants. Visitors in the NMC will be surveyed using an intercept survey administered twice a month at a ferry location and via self-administered surveys disseminated by commercial water operators. It is expected that these multi-pronged approaches will provide the information necessary to complete a stakeholder characterization for the NMC that can be applied to evaluate LAC conditions and trends.

II. Method of Collection

Information will be collected through the internet, email and in person, on paper.

III. Data

OMB Control Number: 0648-xxxx.

Form Number(s): None.

Type of Review: Regular submission (request for a new information collection).

Affected Public: Individuals or households.

Estimated Number of Respondents: 3,000.

Estimated Time per Response: 30 minutes.

Estimated Total Annual Burden Hours: 1,500.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 12, 2017.
Sarah Brabson,
NOAA PRA Clearance Officer.

[FR Doc. 2017-12461 Filed 6-15-17; 8:45 am]

BILLING CODE 3510-JS-P